DEPARTMENT OF VETERANS AFFAIRS

Veterans' Disability Benefits Commission

Notice of Meeting

The Department of Veterans Affairs (VA) gives notice under Pub. L. 92-463 (Federal Advisory Committee Act) that the Veterans' Disability Benefits Commission has scheduled a town hall meeting for February 15, 2006, at the Hilton St. Petersburg Bayfront, 333 First Street South, St. Petersburg, Florida. The town hall meeting will begin at 7 p.m. and end at 9 p.m. A one half day business session of the Commission has been scheduled for February 16, 2006 at the same location. The half day meeting will begin at 8:30 a.m. and end at 11:30 a.m. Both meetings are open to the public.

The purpose of the Commission is to carry out a study of the benefits under the laws of the United States that are provided to compensate and assist veterans and their survivors for disabilities and deaths attributable to military service.

The Commission's visit to St. Petersburg will be the first of eight fact-finding, data-gathering site visits throughout the United States. The St. Petersburg/Tampa area was selected based upon criteria that included the concentration of veterans, active-duty service members and National Guard and Reserves, and the co-location of Veterans Benefits Administration, Veterans Health Administration, and Department of Defense (DoD) facilities, with particular interest in transition activities. The goal of this visit is to allow the commissioners the opportunity to tour local Department of Veterans Affairs (VA) and DoD facilities; examine the processes in place, which assist veterans in their efforts to obtain their benefits; and to present veterans, survivors and the general public with an opportunity to learn about the work of the Commission and to offer comments in a face-to-face forum.

The agenda for the half day meeting will include updates of the research work plans and work in progress by the Center for Naval Analyses (CNA) and the Institute of Medicine (IOM), an overview of the Tampa VA Polytrauma Rehabilitation Center, and an opportunity for public comments.

Interested persons may attend either or both meetings and present oral statements to the Commission. Oral presentations will be limited to five minutes or less, depending on the number of participants. Interested parties may provide written comments for review by the Commission prior to the meeting, by e-mail to veterans@vetscommission.intranets.com or by mail to Mr. Ray Wilburn, Executive Director, Veterans' Disability Benefits Commission, 1101 Pennsylvania Avenue, NW., 5th Floor, Washington, DC 20004.

Dated: January 26, 2006.
By Direction of the Secretary.
E. Philip Riggin,
Committee Management Officer.

[FR Doc. 06-1039 Filed 2-3-06; 8:45 am]

BILLING CODE 8320-01-M